DEPARTMENT OF TRANSPORTATION

Federal Railroad Administration

Corridor Identification and Development Program

AGENCY: Federal Railroad Administration (FRA), Department of Transportation (DOT).

ACTION: Notice of solicitation and funding opportunity (NOFO or notice); extension of application submittal period.

SUMMARY: FRA is extending the application submittal period for its Notice for the Corridor Identification and Development program published on December 20, 2022, from March 20, 2023, to March 27, 2023.

DATES: FRA extends the NOFO application period and applications are now due by 5 p.m. ET on March 27, 2023.

FOR FURTHER INFORMATION CONTACT: For further information related to this notice and the Corridor Identification and Development Program, please contact Mr. Peter Schwartz, Acting Director, Office of Railroad Planning and Engineering at PaxRailDev@dot.gov or 202-493-6360.

SUPPLEMENTARY INFORMATION: FRA amends its NOFO for the Corridor Identification and Development Program published on December 20, 2022 (87 FR 77920), by extending the period for submitting applications to 5 p.m. ET on March 27, 2023. The reason for the extension is due to a technical issue preventing applications from being received on March 20, 2023.

Issued in Washington, DC.
Amitabha Bose,
Administrator.

[FR Doc. 2023-02566 Filed 2-6-23; 8:45 am]

BILLING CODE 4910-06-P